DEPARTMENT OF JUSTICE

Drug Enforcement Administration

[Docket No. 10-37]

Roni Dreszer, M.D.; Decision and Order

ACTION: Correction.

On Thursday, April 7, 2011, the Drug Enforcement Administration published the above-titled Decision and Order, as well as the Decision of the Administrative Law Judge (76 FR 19434). In preparing the document for publication, the files were merged resulting in the footnotes of the Administrative Law Judge's Decision being numbered sequentially to follow the footnote numbers of the Decision and Order rather than beginning with the number 1 as they did in the ALJ's slip opinion.

Therefore, this notice corrects footnotes 11 through 71 appearing in the Decision signed by the U.S. Administrative Law Judge to be footnotes 1 through 61 beginning at 76 FR 19437 under the second column.

Dated: April 8, 2011.
Michele M. Leonhart,
Administrator.

[FR Doc. 2011-9174 Filed 4-14-11; 8:45 am]

BILLING CODE 4410-09-P